FEDERAL COMMUNICATIONS COMMISSION

47 CFR Part 73

[DA 03-430; MM Docket No. 01-257; RM-10267]

Radio Broadcasting Services; Bad Axe, MI

AGENCY: Federal Communications Commission.

ACTION: Proposed rule; dismissal.

SUMMARY: Charles Crawford (“Crawford”) filed a petition for rule making requesting the allotment of FM Channel 231A to Bad Axe, Michigan, as that community's second local FM service. See 66 FR 52733, October 17, 2001. Subsequently, Crawford withdrew his interest in this proceeding. A showing of continuing interest is required before a channel will be allotted to a community. Further, Commission policy refrains from making an allotment in the absence of an expression of interest. Therefore, since no other expressions of interest in applying for the allotment proposal at Bad Axe, Michigan, were received, we dismiss Crawford's proposal, as requested.

ADDRESSES: Federal Communications Commission, 445 12th Street, SW., Washington, DC 20554.

FOR FURTHER INFORMATION CONTACT: Nancy Joyner, Media Bureau, (202) 418-2180.

SUPPLEMENTARY INFORMATION: This is a synopsis of the Commission's Report and Order, MM Docket No. 01-257, adopted February 12, 2003, and released February 18, 2003. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

Federal Communications Commission.
John A. Karousos,
Assistant Chief, Audio Division, Media Bureau.

[FR Doc. 03-5336 Filed 3-5-03; 8:45 am]

BILLING CODE 6712-01-P